DEPARTMENT OF HEALTH AND HUMAN SERVICES

Centers for Disease Control and Prevention

[60Day-13-13PR]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluating the Implementation and Outcome of Policy and Environmental Cancer Control Activities—New—National Center for Chronic Disease Prevention and Health Promotion (NCCDPHP), Centers for Disease Control and Prevention (CDC).

Background and Brief Description

Through the National Comprehensive Cancer Control Program (NCCCP), CDC provides cooperative agreement funding to 65 health departments in states, the District of Columbia, tribal organizations, and territories. NCCCP funding is used to design, implement, and evaluate comprehensive cancer control plans (CDC-RFA-DP12-1205). Support for these programs is a cornerstone of CDC efforts to reduce the burden of cancer throughout the nation. NCCCP awardees have consistently included policy, system and environmental (PSE) change strategies in their program plans and initiatives.

In 2010, CDC provided additional funding (CDC-RFA-DP10-1017) to 13 NCCCP awardees to increase their focus on PSE change strategies. The 13 funded pilot programs include: Cherokee Nation, Colorado, Florida, Indiana, Kentucky, Louisiana, Massachusetts, Michigan, Minnesota, New York, Oregon, Utah, and Wisconsin. The goal of the pilot is to examine what a modest investment can yield, building on the successes that NCCCP awardees have already experienced. Pilot program funding aims to increase each awardee's capacity to implement PSE change initiatives, to effectively implement policies that address local priorities, and to increase collaboration with both traditional and nontraditional partners.

CDC plans to collect the information needed to describe the implementation and outcomes of the pilot program, and to compare the experiences of pilot program awardees with the experiences NCCCP awardees that did not receive pilot program funding. Information collection will include a web-based survey of all NCCCP program directors, a longitudinal case study of selected pilot program awardees, a survey of pilot program coalition members, and focus groups with individuals who have provided technical assistance (TA) to pilot program awardees.

The self-administered NCCCP program director survey will be completed at two points in time approximately 18-24 months apart. The survey will include questions that address capacity for PSE change, technical assistance and training, and descriptive information about two PSE change initiatives being undertaken. The estimated burden per response is 30 minutes.

The longitudinal, multiple-site case study will be conducted with six awardees that received pilot program funding. In selecting case study sites, CDC will consider features that are expected to influence PSE change processes and outcomes, such as: the structure of the awardee's public health system, the state/local policy climate, the awardee's capacity for PSE change, the focus areas that awardees have chosen to address in their work plans, and the demographics and population characteristics of the awardee's jurisdiction. One individual at each site will be asked to assist in coordinating a site visit.

During initial site visits to the six selected pilot programs, interviews will be conducted with key informants including NCCCP staff, partners who are members of the awardee's policy task force, and community members who play an important role in implementing PSE change initiatives. Approximately three NCCCP staff members and 12 partners/community members per site will be asked to participate. The estimated burden per response is 90 minutes for NCCCP staff and 60 minutes for partners/community members. Interview data will be supplemented with documentary evidence and program monitoring data already collected by local program staff and by CDC. Approximately two years after the site visit, a second round of interviews will be conducted by telephone. The respondents for the telephone interviews may be the same individuals who were interviewed during the initial site visits, or other key informants.

CDC also plans to conduct an annual focus group involving CDC staff and national partners who have provided technical assistance and training to the pilot programs. The purpose of the focus groups is to gather information about the capacity, challenges, and facilitators of PSE change from the perspective of the trainers who have had direct interaction with the awardees. Focus groups will be conducted with approximately 10 non-federal respondents per group. The estimated burden per response is 90 minutes.

Finally, CDC plans to conduct a survey of coalition members in the third year of the evaluation. The content of the survey may include questions from the program director survey as well as other issues identified during the evaluation process. CDC estimates 20 responses in each of 13 sites for a total of 260 responses. The estimated burden per response is 20 minutes.

Specific evaluation questions to be addressed in this pilot program evaluation include: (1) How the pilot program enhanced comprehensive cancer control; (2) whether the pilot program facilitated a shift towards primary prevention; (3) the program's effects on cancer control infrastructure; (4) pilot program implementation strategies; (5) key outcomes; (6) the role of the state task force; and (7) lessons learned.

The case studies will allow CDC to understand how differences in programmatic characteristics and context influence overall implementation processes and outcomes. Information to be collected may also inform the development of technical assistance and the future allocation of program resources.

OMB approval is requested for three years. Participation is voluntary and there are no costs to the respondents other than their time.

Estimated Annualized Burden Hours
Type of respondent | Form name | Number of respondents | Number of responses per respondent | Average burden per response (in hr) | Total response burden (in hr)
CCC Program Directors | Program Directors Web Survey Questionnaire | 43 | 1 | 30/60 | 22
CCC Staff | Key Informant Selection | 2 | 1 | 8 | 16
| Key Informant Recruitment/Scheduling | 12 | 1 | 5/60 | 1
| Key Informant Interview | 12 | 1 | 1.5 | 18
CCC Partners | Key Informant Recruitment/Scheduling | 48 | 1 | 5/60 | 4
| Key Informant Interview | 48 | 1 | 1 | 48
| Coalition Survey | 87 | 1 | 20/60 | 29
TA Providers | Focus Group Guide | 10 | 1 | 1.5 | 15
Total |  |  |  |  | 153

Dated: April 1, 2013.
Ron A. Otten,
Director, Office of Scientific Integrity, Office of the Associate Director for Science, Office of the Director, Centers for Disease Control and Prevention.

[FR Doc. 2013-08051 Filed 4-5-13; 8:45 am]

BILLING CODE 4163-18-P